DEPARTMENT OF ENERGY

Federal Energy Regulatory Commission

Combined Notice of Filings #2

Take notice that the Commission received the following electric rate filings:

Docket Numbers: ER22-2296-000.

Applicants: NorthWestern Corporation.

Description: § 205(d) Rate Filing: SA 944—Agreement to Provide Services with Beartooth Electric Co-op to be effective 7/8/2022.

Filed Date: 7/7/22.

Accession Number: 20220707-5181.

Comment Date: 5 p.m. ET 7/28/22.

Docket Numbers: ER22-2297-000.

Applicants: Southwest Power Pool, Inc.

Description: § 205(d) Rate Filing: 1276R27 Evergy Metro NITSA NOA to be effective 9/1/2022.

Filed Date: 7/8/22.

Accession Number: 20220708-5008.

Comment Date: 5 p.m. ET 7/29/22.

Docket Numbers: ER22-2298-000.

Applicants: PJM Interconnection, L.L.C.

Description: § 205(d) Rate Filing: Amendment to WMPA, Service Agreement No. 6081; Queue No. AF2-426 to be effective 5/4/2021.

Filed Date: 7/8/22.

Accession Number: 20220708-5011.

Comment Date: 5 p.m. ET 7/29/22.

Docket Numbers: ER22-2299-000.

Applicants: Midcontinent Independent System Operator, Inc., Ameren Illinois Company.

Description: § 205(d) Rate Filing: Midcontinent Independent System Operator, Inc. submits tariff filing per 35.13(a)(2)(iii: 2022-07-08_SA 3028 Ameren IL-Prairie Power Project #17A Ishi 1st Rev to be effective 7/9/2022.

Filed Date: 7/8/22.

Accession Number: 20220708-5022.

Comment Date: 5 p.m. ET 7/29/22.

Docket Numbers: ER22-2302-000.

Applicants: NedPower Mount Storm LLC, Pinnacle Wind, LLC, Black Rock Wind Force, LLC.

Description: Black Rock Wind Force, LLC, Nedpower Mount Storm LLC and Pinnacle Wind, LLC Submit Waiver Request of Tariff Provisions with Expedited Consideration.

Filed Date: 7/5/22.

Accession Number: 20220705-5208.

Comment Date: 5 p.m. ET 7/26/22.

Docket Numbers: ER22-2303-000.

Applicants: Black Hills Power, Inc.

Description: Compliance filing: Order No. 881 Compliance Filing to be effective 7/12/2025.

Filed Date: 7/8/22.

Accession Number: 20220708-5082.

Comment Date: 5 p.m. ET 7/29/22.

Docket Numbers: ER22-2304-000.

Applicants: Nevada Power Company.

Description: Compliance filing: NPC Transmission Line Ratings to be effective 7/12/2025.

Filed Date: 7/8/22.

Accession Number: 20220708-5084.

Comment Date: 5 p.m. ET 7/29/22.

Docket Numbers: ER22-2305-000.

Applicants: Louisville Gas and Electric Company.

Description: Compliance filing: Order 881 Compliance Filing to be effective 7/12/2025.

Filed Date: 7/8/22.

Accession Number: 20220708-5085.

Comment Date: 5 p.m. ET 7/29/22.

Docket Numbers: ER22-2306-000.

Applicants: Black Hills Colorado Electric, LLC.

Description: Compliance filing: Order No. 881 Compliance Filing to be effective 7/12/2025.

Filed Date: 7/8/22.

Accession Number: 20220708-5086.

Comment Date: 5 p.m. ET 7/29/22.

Docket Numbers: ER22-2307-000.

Applicants: Cheyenne Light, Fuel and Power Company.

Description: Compliance filing: Order No. 881 Compliance Filing to be effective 7/12/2025.

Filed Date: 7/8/22.

Accession Number: 20220708-5088.

Comment Date: 5 p.m. ET 7/29/22.

Docket Numbers: ER22-2308-000.

Applicants: Physical Systems Integration, LLC.

Description: Notice of Cancellation of Market Based Rate Tariff of Physical Systems Integration, LLC.

Filed Date: 7/6/22.

Accession Number: 20220706-5160.

Comment Date: 5 p.m. ET 7/27/22.

Docket Numbers: ER22-2309-000.

Applicants: SIG Energy, LLLP.

Description: Notice of Cancellation of Market Based Rate Tariff of SIG Energy, LLLP.

Filed Date: 7/7/22.

Accession Number: 20220707-5210.

Comment Date: 5 p.m. ET 7/28/22.

Docket Numbers: ER22-2310-000.

Applicants: PacifiCorp.

Description: Compliance filing: OATT Order 881 Compliance Filing New Attachment X to be effective 7/12/2025.

Filed Date: 7/8/22.

Accession Number: 20220708-5117.

Comment Date: 5 p.m. ET 7/29/22.

Docket Numbers: ER22-2311-000.

Applicants: Alabama Power Company, Georgia Power Company, Mississippi Power Company.

Description: Baseline eTariff Filing: Alabama Power Company submits tariff filing per 35.1: Origis Development (New Augusta Solar & Storage) LGIA Filing to be effective 7/8/2022.

Filed Date: 7/8/22.

Accession Number: 20220708-5121.

Comment Date: 5 p.m. ET 7/29/22.

Docket Numbers: ER22-2312-000.

Applicants: Georgia Power Company.

Description: § 205(d) Rate Filing: Concurrence for Alabama Power. New OATT Associated Service Agreements 2 Database to be effective 7/8/2022.

Filed Date: 7/8/22.

Accession Number: 20220708-5125.

Comment Date: 5 p.m. ET 7/29/22.

Docket Numbers: ER22-2313-000.

Applicants: Mississippi Power Company.

Description: § 205(d) Rate Filing: Concurrence for Alabama Power. New OATT Associated Service Agreements 2 Database to be effective 7/8/2022.

Filed Date: 7/8/22.

Accession Number: 20220708-5127.

Comment Date: 5 p.m. ET 7/29/22.

Docket Numbers: ER22-2314-000.

Applicants: Langdon Renewables, LLC.

Description: Baseline eTariff Filing: Langdon Renewables, LLC A&R Common Facilities Agreement to be effective 9/7/2022.

Filed Date: 7/8/22.

Accession Number: 20220708-5144.

Comment Date: 5 p.m. ET 7/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

Dated: July 8, 2022.
Debbie-Anne A. Reese,
Deputy Secretary.

[FR Doc. 2022-15050 Filed 7-13-22; 8:45 am]

BILLING CODE 6717-01-P